DEPARTMENT OF HOMELAND SECURITY

Transportation Security Administration

Intent To Request Renewal From OMB of One Current Public Collection of Information: Critical Facility Information of the Top 100 Most Critical Pipelines

AGENCY: Transportation Security Administration, DHS.

ACTION: 60-Day notice.

SUMMARY: The Transportation Security Administration (TSA) invites public comment on one currently approved Information Collection Request (ICR), Office of Management and Budget (OMB) control number 1652-0050, abstracted below that we will submit to OMB for renewal in compliance with the Paperwork Reduction Act (PRA). The ICR describes the nature of the information collection and its expected burden. The Implementing Recommendations of the 9/11 Commission Act of 2007 (9/11 Act) required TSA to develop and implement a plan to inspect critical pipeline systems.

DATES: Send your comments by July 14, 2014.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0050; Critical Facility Information of the Top 100 Most Critical Pipelines: The 9/11Act specifically tasked TSA to develop and implement a plan for inspecting critical facilities of the 100 most critical pipeline systems. (See sec. 1557 of the 9/11 Act (Pub. L. 110-53 codified at 6 U.S.C. 1207)). Pipeline operators determined their critical facilities based on guidance and criteria set forth in the TSA Pipeline Security Guidelines published in April 2011.

TSA intends to continue visiting critical pipeline facilities and collecting site-specific information from pipeline operators on facility security policies, procedures, and physical security measures. This collection is voluntary. TSA will collect information obtained during the visits using a Critical Facility Security Review (CFSR) Form. The CFSR differs from a Corporate Security Review (CSR) conducted by TSA in that a CSR looks at corporate or company-wide security management plans and practices while the CFSR will look at individual pipeline facility security measures and procedures.¹ TSA is seeking OMB approval to continue utilizing the CFSR document during critical facility reviews in order to collect facility security information. Information collected from the reviews will be analyzed and used to determine strengths and weaknesses at the nation's critical pipeline facilities, areas to target for risk reduction strategies, pipeline industry implementation of the voluntary guidelines, and the need for regulations in accordance with the 9/11 Act provisions previously cited. TSA anticipates visiting 90 critical facilities each year.

¹ See OMB Control No. 1652-0056 for the PRA approval of information collection for pipeline CSRs.

TSA is also seeking OMB approval to continue its follow up procedure with pipeline operators on their implementation of security improvements and recommendations made during facility visits. During critical facility visits, TSA documents and provides recommendations to improve the security posture of the facility. TSA intends to continue to follow up with pipeline operators via email on their status toward implementation of the recommendations made during the critical facility visits. The follow up will be conducted between approximately 12 and 24 months after the facility visit.

TSA will use the information collected to determine to what extent the pipeline industry is implementing the 2011 guidance document and security improvement recommendations made during critical facility visits. The information provided by owners or operators for each information collection is Sensitive Security Information (SSI), and it will be protected in accordance with procedures meeting the transmission, handling, and storage requirements of SSI set forth in 49 CFR parts 15 and 1520.

The annual burden for the approval of the information collection related to the Critical Facility Review Form is estimated to be 360 hours. A maximum of 90 facility reviews will be conducted each year with each review taking approximately 4 hours (90 × 4).

The annual burden for the approval of the information collection related to the follow up on the recommendations made to facility operators is estimated to be 450 hours. TSA estimates each operator will spend approximately 5 hours to submit a response to TSA regarding its implementation of security recommendations made during critical facility visits. If a maximum of 90 critical facilities are reviewed each year, and TSA follows up with each facility operator between approximately 12 and 24 months following the visit, the total annual burden is 450 (90 × 5) hours.

The estimated number of respondents will be 90 for the critical facility review form and 90 for the recommendations follow-up, for a total of 180 respondents. The total estimated burden is 810 hours annually, 360 hours for the critical facility review form, plus 450 hours for the recommendations follow-up procedure.

Dated: May 8, 2014.
Christina Walsh,
TSA Paperwork Reduction Act Officer, Office of Information Technology.

[FR Doc. 2014-10997 Filed 5-13-14; 8:45 am]

BILLING CODE 9910-05-P